DEPARTMENT OF TRANSPORTATION

Federal Aviation Administration

14 CFR Part 39

[Docket No. FAA-2009-1215; Directorate Identifier 2009-NM-126-AD; Amendment 39-16364; AD 2010-14-19]

RIN 2120-AA64

Airworthiness Directives; Airbus Model A330-200 and -300, and Model A340-200, -300, -500 and -600 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

* * * [P]artial blockage of the water absorbing filter element P/N (part number) QA06123 was observed several times. The blockage was created by carbon debris from the cartridge and from the burst disc of the Halon bottle.

This water absorbing filter element is part of Halon Dual-Filter Assembly installed also in the Flow Metering System (FMS) of the cargo compartment Fire Extinguishing System used in the A330 and A340 aeroplanes.

Blockage of the water absorbing filter element could lead to reduction of Halon outflow, leading to incapacity to maintain fire extinguishing agent concentration. Combined with fire, this could result in an uncontrolled fire in the affected compartment, which would constitute an unsafe condition.

* * * * *

We are issuing this AD to require actions to correct the unsafe condition on these products.

DATES: This AD becomes effective August 17, 2010.

The Director of the Federal Register approved the incorporation by reference of certain publications listed in this AD as of August 17, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on December 29, 2009 (74 FR 68737). That NPRM proposed to correct an unsafe condition for the specified products. The MCAI states:

During the qualification test campaign at the supplier site of the prototype Flow Metering Compact Unit (FMCU) Part Number (P/N) QA07907-03, partial blockage of the water absorbing filter element P/N QA06123 was observed several times. The blockage was created by carbon debris from the cartridge and from the burst disc of the Halon bottle.

This water absorbing filter element is part of Halon Dual-Filter Assembly installed also in the Flow Metering System (FMS) of the cargo compartment Fire Extinguishing System used in the A330 and A340 aeroplanes.

Blockage of the water absorbing filter element could lead to reduction of Halon outflow, leading to incapacity to maintain fire extinguishing agent concentration. Combined with fire, this could result in an uncontrolled fire in the affected compartment, which would constitute an unsafe condition.

To avoid water absorbing filter element blockage, this AD requires replacement [with improved dual-filter assemblies] or modification of the Halon dual-filter assemblies of the lower deck cargo compartment fire extinguishing system:

—In the forward cargo compartment for aeroplanes fitted with Lower Deck Cargo Compartment (LDCC) and

—In the bulk cargo compartment for aeroplanes fitted with Bulk Cargo Rest Compartment (BCRC) fire extinguishing system.

You may obtain further information by examining the MCAI in the AD docket.

Comments

We gave the public the opportunity to participate in developing this AD. We considered the comments received.

Support for the NPRM

Delta Air Lines (DAL) supports the intent of the NPRM.

Request To Refer to Updated Revisions of Service Information

Air Transport Association (ATA), on behalf of its member DAL, requests that we revise paragraph (f) of the NPRM to reference the most recent version of Airbus Mandatory Service Bulletin A330-26-3040 as an acceptable means of compliance.

We agree to refer to Airbus Mandatory Service Bulletin A330-26-3040, Revision 03, dated November 9, 2009. Airbus has also released Mandatory Service Bulletin A340-26-4038, Revision 03, dated November 9, 2009; and Mandatory Service Bulletin A340-26-5019, Revision 04, dated December 11, 2009. The revisions introduce minor changes and add the Halon filter part number, but do not add any additional work. We have revised this final rule accordingly.

Request To Mandate a Specific Version of PALL Service Bulletin

ATA, on behalf of its member DAL, states that it will be unable to fully comply because of an inconsistency in the PALL service information. DAL requests that we revise the NPRM to mandate a specific issue of PALL Service Bulletin 6753-20-2. DAL states that specifying a specific issue level is necessary because acceptable part numbers vary in the work instruction in the different issues of this PALL service bulletin.

We disagree. Airbus has issued new service information, which specifies the specific part number, Halon filter having part number QA06753-03VSB or QA06753-03. The Airbus service information specified in Table 1 of this AD refers to PALL Service Bulletin 6753-20-2 only as an additional source of guidance for modifying the Halon dual-filter assembly. We have revised this final rule to include the latest version of the applicable Airbus service information and to provide credit for work done in accordance with previous revisions of the service information.

Request To Postpone Release of the Final Rule Until PALL Service Bulletin Is Revised

ATA, on behalf of its member DAL, requests that we postpone releasing the final rule until PALL revises its service information. DAL states that the paragraph 2.D of PALL Service Bulletin 6753-20-2 specifies when performing the modification in situ to continue to step 7 after accomplishing an airplane leak check. DAL states that PALL Service Bulletin 6753-20-2 specifies to proceed to step 4 if not performing the modification in situ. However, DAL notes that steps 2.D.7 and 2.D.8 state to remove tooling from the filter assembly, which is installed in step 5. DAL notes that if the modification is being performed in situ, then step 5 is not accomplished, and therefore, steps 7 and 8 cannot be accomplished.

We do not agree to wait to issue the final rule until PALL releases a revised service bulletin. However, we agree that clarification may be necessary. We have coordinated with Airbus, and it has confirmed that PALL Service Bulletin 6753-20-2, Issue 4, dated November 21, 2009, contains a discrepancy in a note. Airbus states that when performing the work `on-wing,' operators using PALL Service Bulletin 6753-20-2, Issue 4, dated November 21, 2009, for guidance should go to step 9, not step 7. We have not changed the AD in regard to this issue.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Explanation of Change to Costs of Compliance

Since issuance of the NPRM, we have increased the labor rate used in the Costs of Compliance from $80 per work-hour to $85 per work-hour. The Costs of Compliance information, below, reflects this increase in the specified hourly labor rate.

Costs of Compliance

We estimate that this AD will affect 32 products of U.S. registry. We also estimate that it will take about 13 work-hours per product to comply with the basic requirements of this AD. The average labor rate is $85 per work-hour. Required parts will cost about $708 per product. Where the service information lists required parts costs that are covered under warranty, we have assumed that there will be no charge for these parts. As we do not control warranty coverage for affected parties, some parties may incur costs higher than estimated here. Based on these figures, we estimate the cost of this AD to the U.S. operators to be $58,016, or $1,813 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-14-19 Airbus: Amendment 39-16364. Docket No. FAA-2009-1215; Directorate Identifier 2009-NM-126-AD.

Effective Date

(a) This airworthiness directive (AD) becomes effective August 17, 2010.

Affected ADs

(b) None.

Applicability

(c) This AD applies to airplanes certificated in any category, identified in paragraphs (c)(1), (c)(2), and (c)(3) of this AD.

(1) Airbus Model A330-201, -202, -203, -223, -243, -301, -302, -303, -321, -322, -323, -341, -342 and -343 airplanes, all serial numbers, except those on which Airbus modification 55590 has been embodied in production.

(2) Airbus Model A340-211, -212, -213, -311, -312, -313, -541, and -642 airplanes, all serial numbers fitted with lower deck cargo compartment (LDCC), except those on which Airbus modification 55590 has been embodied in production.

(3) Airbus Model A340-311, -312, -313, -541, and -642 airplanes, all serial numbers fitted with bulk cargo rest compartment (BCRC), except those on which Airbus modification 56047 has been embodied in production.

Note 1: The BCRC is embodied in production on Model A340-300, A340-500, and A340-600 airplanes through the following Airbus modification (including but not limited to): 47198, 47884, 48895, 48710, 49136, 50107, 50900, 50901, or 51320.

Note 2: The fire extinguishing system for the BCRC is embodied in production on Model A340-500 and A340-600 airplanes through Mod 47197 (partial BCRC); on Model A340-500 and A340-600 airplanes through Mod 47883 (full BCRC); and on Model A340-300 airplanes through Mod 50108 (partial BCRC).

Subject

(d) Air Transport Association (ATA) of America Code 26: Fire protection.

Reason

(e) The mandatory continuing airworthiness information (MCAI) states:

During the qualification test campaign at the supplier site of the prototype Flow Metering Compact Unit (FMCU) Part Number (P/N) QA07907-03, partial blockage of the water absorbing filter element P/N QA06123 was observed several times. The blockage was created by carbon debris from the cartridge and from the burst disc of the Halon bottle.

This water absorbing filter element is part of Halon Dual-Filter Assembly installed also in the Flow Metering System (FMS) of the cargo compartment Fire Extinguishing System used in the A330 and A340 aeroplanes.

Blockage of the water absorbing filter element could lead to reduction of Halon outflow, leading to incapacity to maintain fire extinguishing agent concentration. Combined with fire, this could result in an uncontrolled fire in the affected compartment, which would constitute an unsafe condition.

To avoid water absorbing filter element blockage, this AD requires replacement [with improved dual-filter assemblies] or modification of the Halon dual-filter assemblies of the lower deck cargo compartment fire extinguishing system:

—In the forward cargo compartment for aeroplanes fitted with Lower Deck Cargo Compartment (LDCC) and

—In the bulk cargo compartment for aeroplanes fitted with Bulk Cargo Rest Compartment (BCRC) fire extinguishing system.

Actions and Compliance

(f) Unless already done, do the following actions.

(1) Replace or modify the Halon dual-filter assemblies of the flow metering fire extinguishing system in the forward and bulk cargo compartments, as applicable, in accordance with the Accomplishment Instructions of the applicable service bulletin identified in Table 1 of this AD, at the applicable time specified in paragraphs (f)(1)(i), (f)(1)(ii), and (f)(1)(iii) of this AD.

Table 1—Service Bulletins
Airbus model— | Airbus mandatory service bulletin— | Revision— | Dated—
A330-200 and -300 airplanes | A330-26-3040 | 03 | November 9, 2009.
A340-200 and -300 airplanes | A340-26-4038 | 03 | November 9, 2009.
A340-500 and -600 airplanes | A340-26-5019 | 04 | December 11, 2009.

(i) For airplanes fitted with Halon dual-filter assemblies part number (P/N) QA06753: Within 18 months after the effective date of this AD.

(ii) For Model A340-642 series airplanes, weight variant 101, 102, and 103 fitted with Halon dual-filter assembly P/N QA06753-01 or P/N QA06753-02: Within 18 months after the effective date of this AD.

(iii) For airplanes other than those identified in paragraph (f)(1)(ii) of this AD and fitted with Halon dual-filter assembly P/N QA06753-01 or P/N QA06753-02: Within 24 months after the effective date of this AD.

Note 3: The Halon dual-filter assembly P/N QA06753 is embodied in production through Airbus modification 40041. The Halon dual-filter assembly P/N QA06753-01 is only embodied in service through Airbus Service Bulletin A330-26-3030 or Airbus Service Bulletin A340-26-4038. The Halon dual-filter assembly P/N QA06753-02 is embodied in production through modification 47197 or 47883 or 50108 (BCRC) and 51065 or 51329 (LDCC) or in service through Airbus Service Bulletin A330-26-3030 or Airbus Service Bulletin A340-26-4038.

(2) Actions accomplished before the effective date of this AD according to the service bulletins listed in Table 2 of this AD are considered acceptable for compliance with the corresponding actions specified in this AD.

Table 2—Credit Service Bulletins
Airbus— | Revision— | Dated—
Mandatory Service Bulletin A330-26-3040 | 02 | August 6, 2008.
Mandatory Service Bulletin A340-26-5019 | 02 | August 6, 2008.
Mandatory Service Bulletin A340-26-5019 | 03 | May 19, 2009.
Service Bulletin A330-26-3040 | Original | March 29, 2007.
Service Bulletin A330-26-3040 | 01 | December 19, 2007.
Service Bulletin A340-26-4038 | Original | March 29, 2007.
Service Bulletin A340-26-4038 | 01 | December 19, 2007.
Service Bulletin A340-26-4038 | 02 | August 6, 2008.
Service Bulletin A340-26-5019 | Original | July 27, 2007.
Service Bulletin A340-26-5019 | 01 | January 23, 2008.

FAA AD Differences

Note 4: This AD differs from the MCAI and/or service information as follows:

(1) The second paragraph of the applicability of the MCAI specifies certain models except those on which Modification 55590 has been done. Paragraph (c)(2) of this AD specifies those models fitted with lower deck cargo compartment (LDCC), except those on which Modification 55590 has been done.

(2) Although the MCAI tells you to submit information to the manufacturer, this AD does not require such a submittal.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(h) Refer to MCAI European Aviation Safety Agency Airworthiness Directive 2009-0064, dated March 12, 2009, and the service information identified in Table 3 of this AD, for related information.

Table 3—Related Service Information
Airbus mandatory service bulletin— | Revision— | Dated—
A330-26-3040 | 03 | November 9, 2009.
A340-26-4038 | 03 | November 9, 2009.
A340-26-5019 | 04 | December 11, 2009.

Material Incorporated by Reference

(i) You must use the service information contained in Table 4 of this AD to do the actions required by this AD, unless the AD specifies otherwise.

Table 4—Material Incorporated by Reference
Airbus mandatory service bulletin— | Revision— | Dated—
A330-26-3040 | 03 | November 9, 2009.
A340-26-4038 | 03 | November 9, 2009.
A340-26-5019 | 04 | December 11, 2009.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone +33 5 61 93 36 96; fax +33 5 61 93 45 80, e-mail airworthiness.A330-A340@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington on June 29, 2010.
Ali Bahrami,
Manager, Transport Airplane Directorate, Aircraft Certification Service.

[FR Doc. 2010-16550 Filed 7-12-10; 8:45 am]

BILLING CODE 4910-13-P